SURFACE TRANSPORTATION BOARD

[Docket No. AB 55 (Sub-No. 805X)]

CSX Transportation, Inc.—Abandonment Exemption—in Davidson County, Tenn.

On June 30, 2021, CSX Transportation, Inc. (CSXT) filed a petition under 49 U.S.C. 10502 for exemption from the prior approval requirements of 49 U.S.C. 10903 to abandon an approximately 2,262-foot rail line between milepost Val Sta. 2403+77 and milepost Val Sta. 2426+39 on its Nashville Division, Nashville Terminal Subdivision, in Davidson County, Tenn. (the Line). The Line traverses U.S. Postal Service Zip Code 37207.

According to CSXT, in the last two years, there were two shippers on the Line, Cherokee Marine Terminals and Kenwal Steel Corporation. (Pet. 3.) CSXT states that the property on which both shippers were located has been purchased by Monroe Infrastructure, LLC (Monroe), (id.), that both shippers are no longer located on the Line, (id. at 5), and that there are no current customers on the Line, (id.). Moreover, CSXT represents that Monroe intends to redevelop the land adjacent to the Line for non-rail purposes—specifically retail, residential, and office space—and that the City has rezoned the adjacent land for residential and commercial use. (Id. at 4-5.) Thus, CSXT asserts, there are no prospects for future shippers on the Line. (Id. at 5.) CSXT seeks to abandon its interest in the Line and sell the property to Monroe to facilitate the redevelopment of the adjacent property. (Id. at 4.)

CSXT states that, based on the information in its possession, the Line does not contain federally granted rights-of-way. Any documentation in CSXT's possession will be made available promptly to those requesting it.

The interest of railroad employees will be protected by the conditions set forth in Oregon Short Line Railroad—Abandonment Portion Goshen Branch Between Firth & Ammon, in Bingham & Bonneville Counties, Idaho, 360 I.C.C. 91 (1979).

By issuing this notice, the Board is instituting an exemption proceeding pursuant to 49 U.S.C. 10502(b). A final decision will be issued by October 18, 2021.

Any offer of financial assistance (OFA) under 49 CFR 1152.27(b)(2) will be due no later than 120 days after the filing of the petition for exemption, or 10 days after service of a decision granting the petition for exemption, whichever occurs sooner. Persons interested in submitting an OFA must first file a formal expression of intent to file an offer by July 30, 2021, indicating the type of financial assistance they wish to provide (i.e., subsidy or purchase) and demonstrating that they are preliminarily financially responsible. See 49 CFR 1152.27(c)(1)(i).

Following abandonment, the Line may be suitable for other public use, including interim trail use. Any request for a public use condition under 49 CFR 1152.28 or for interim trail use/rail banking under 49 CFR 1152.29 will be due no later than August 9, 2021.¹

¹ Filing fees for OFAs and trail use requests can be found at 49 CFR 1002.2(f)(25) and (27), respectively.

All pleadings referring to Docket No. AB 55 (Sub-No. 805X) should be filed with the Surface Transportation Board via e-filing on the Board's website. In addition, a copy of each pleading must be served on CSXT's representative, Melanie B. Yasbin, Law Offices of Louis E. Gitomer, 600 Baltimore Avenue, Suite 301, Towson, MD 21204. Replies to the petition are due on or before August 9, 2021.

Persons seeking further information concerning abandonment procedures may contact the Board's Office of Public Assistance, Governmental Affairs, and Compliance at (202) 245-0238 or refer to the full abandonment regulations at 49 CFR part 1152. Questions concerning environmental issues may be directed to the Board's Office of Environmental Analysis (OEA) at (202) 245-0305. Assistance for the hearing impaired is available through the Federal Relay Service at (800) 877-8339.

A Draft Environmental Assessment (Draft EA) (or Draft Environmental Impact Statement (Draft EIS), if necessary) prepared by OEA will be served upon all parties of record and upon any other agencies or persons who comment during its preparation. Other interested persons may contact OEA to obtain a copy of the Draft EA (or Draft EIS). Draft EAs in abandonment proceedings normally will be made available within 60 days of the filing of the petition. The deadline for submission of comments on the Draft EA generally will be within 30 days of its service.

Board decisions and notices are available at www.stb.gov.

Decided: July 14, 2021.
By the Board, Valerie O. Quinn, Acting Director, Office of Proceedings.
Brendetta Jones,
Clearance Clerk.

[FR Doc. 2021-15328 Filed 7-19-21; 8:45 am]

BILLING CODE 4915-01-P